ENVIRONMENTAL PROTECTION AGENCY

[FRL-7029-7]

Technical Workshop on the Draft Framework for Cumulative Risk Assessment

AGENCY: Environmental Protection Agency.

ACTION: Notice of meeting.

SUMMARY: The Environmental Protection Agency (EPA) is announcing a meeting, organized and convened by Versar, Inc., a contractor to EPA's Risk Assessment Forum, for external scientific peer consultation on the draft Framework for Cumulative Risk Assessment. The meeting is being held to discuss technical issues associated with cumulative risk assessment and how to capture these issues in a broad, flexible framework that will inform future guidance development efforts in this area. Meeting participants, invited by Versar, Inc., will be drawn from academia, industry, consulting, environmental and community groups and will provide expertise in areas such as aggregate and cumulative exposure, chemical mixtures, socioeconomic vulnerability, as well as public health assessment and uncertainty analysis.

DATES: The meeting will be held from 8:30 a.m. to 5 p.m. on Wednesday, August 22, 2001, and from 8:30 a.m. to 5 p.m. on Thursday, August 23, 2001. Members of the public may attend as observers, and there will be a limited time for comments from the public. Comments should be in writing and must be postmarked by September 10, 2001.

ADDRESSES: The meeting will be held at the Marriott Crystal Gateway Hotel, Arlington, VA. Versar, Inc., an EPA contractor, will convene and facilitate the workshop. To register to attend the workshop as an observer, visit www.versar.com/epa/cumriskmtg.htm, or contact Ann Cyrus, Versar, Inc.; telephone: (703) 750-3000 extension 274; facsimile: 703-642-6954; email cyrusann@versar.com by 5 p.m. eastern daylight time, August 17, 2001. Space is limited, and reservations will be accepted on a first-come, first-served basis. There will be a limited time for comments from the public during the workshop. Please let Versar know if you wish to make comments, and provide Versar with one written copy of comments prior to the start of the meeting.

The draft Framework for Cumulative Risk Assessment is available primarily via the Internet at http://www.epa.gov/ncea/raf/rafpub.htm. A limited number of paper copies are available from the Technical Information Staff (8623D), NCEA-W; telephone: 202-564-3261; facsimile: 202-565-0050. If you are requesting a paper copy, please provide your name, mailing address, and the document title, draft Framework for Cumulative Risk Assessment. Copies are not available from Versar. Comments may be mailed to the Technical Information Staff (8623D), NCEA-W, U.S. Environmental Protection Agency, 1200 Pennsylvania Avenue, NW., Washington, DC 20460, or delivered to the Technical Information Staff at 808 17th Street, NW., 5th Floor, Washington, DC 20006; telephone: 202-564-3261; facsimile: 202-565-0050. Comments should be in writing and please submit one unbound original with pages numbered consecutively, and two copies of the comments. For attachments, provide an index, number pages consecutively with the comments, and submit an unbound original and three copies. Electronic comments may be emailed to: nceadc.comment@ epa.gov.

Please note that all technical comments received in response to this notice will be public information. For that reason, commentors should not submit personal information (such as medical data or home address), Confidential Business Information, or information protected by copyright. Due to limited resources, acknowledgments will not be sent.

FOR FURTHER INFORMATION CONTACT: For further information concerning the technical workshop please contact Ann Cyrus, Versar, Inc.; telephone: (703) 750-3000 extension 274; facsimile: 703-642-6954; email cyrusann@versar.com. For technical inquiries concerning the draft Framework for Cumulative Risk Assessment, please contact Steven Knott, U.S. EPA Office of Research and Development, Risk Assessment Forum (8601-D), 1200 Pennsylvania Ave., NW, Washington, DC 20460; telephone (202) 564-3359; facsimile (202) 565-0062; email knott.steven@epa.gov.

SUPPLEMENTARY INFORMATION: Several reports have highlighted the importance of understanding the accumulation of risks from multiple environmental stressors. These include the National Research Council's (NRC) 1994 report Science and Judgment in Risk Assessment and the 1997 report by the Presidential/Congressional Commission on Risk Assessment and Risk Management entitled Risk Assessment and Risk Management in Regulatory Decision-Making. In addition, legislation such as the Food Quality Protection Act of 1996 (FQPA), has directed the Environmental Protection Agency (EPA) to move beyond single chemical assessments and to focus, in part, on the cumulative effects of chemical exposures occurring simultaneously. Further emphasizing the need for EPA to focus on cumulative risks are cases filed under Title VI of the 1964 Civil Rights Act. These cases have necessitated a population-based approach to assessing human health risks from environmental contaminants.

In response to the increasing focus on cumulative risk, several EPA programs have begun to explore cumulative approaches to risk assessment. In 1997, The EPA Science Policy Council issued a guidance on planning and scoping for cumulative risk assessments (http://www.epa.gov/ord/spc/2cumrisk.htm). More recently, the Office of Pesticide Programs has developed draft cumulative risk assessment guidance focused on implementing certain provisions of FQPA. The Office of Air Quality Planning and Standards has applied cumulative exposure models in its analyses for the National-Scale Air Toxics Assessment (NATA). In addition, community-specific cumulative risk assessment has been explored through the Agency's Cumulative Exposure Project.

The EPA Science Policy Council has asked the Risk Assessment Forum (RAF) to begin developing Agency-wide cumulative risk assessment guidance that builds from these activities. As a first step, a technical panel convened under the RAF has been working to develop a Framework for Cumulative Risk Assessment. Building from the Agency's growing experiences, this Framework is intended to identify the basic elements of the cumulative risk assessment process. It should provide a flexible structure for the technical issues and define key terms associated with cumulative risk assessment.

The workshop announced in this notice has two primary purposes. First, it will provide interested stakeholders with an opportunity to see an early draft of the Framework document. Second, it affords an early opportunity to hear input from these stakeholders which will assist with further development of the draft Framework. Versar will focus the workshop discussion on the technical issues associated with the current draft of the Framework for Cumulative Risk Assessment.

Dated: August 3, 2001.
Art Payne,
Acting Director, National Center for Environmental Assessment.

[FR Doc. 01-20128 Filed 8-9-01; 8:45 am]

BILLING CODE 6560-50-P